DEPARTMENT OF HOMELAND SECURITY

Federal Emergency Management Agency

Compendium of Flood Map Changes

AGENCY: Federal Emergency Management Agency, DHS.

ACTION: Notice of availability.

SUMMARY: The Federal Emergency Management Agency (FEMA) announces the availability of the Compendium of Flood Map Changes which provides a listing of changes made to the National Flood Insurance Program (NFIP) maps that became effective from January 1, 2005 through June 30, 2007. Future notices of changes to NFIP maps will be made available approximately every 6 months.

DATES: The five listings include changes to NFIP maps that became effective from January 1, 2005 through June 30, 2007. This includes the Compendium of Flood Map Changes from, January 1, 2005 through June 30, 2005; July 1, 2005 through December 31, 2005; January 1, 2006 through June 30, 2006; July 1, 2006 through December 30, 2006; and January 1, 2007 through June 30, 2007.

ADDRESSES: The Compendium of Flood Map Changes is available on the Internet at www.fema.gov/plan/prevent/fhm/dl_comp.shtm. You may also request a copy of the Compendium of Flood Map Changes on CD from the Map Service Center at http://www.msc.fema.gov, or (800) 358-9616.

FOR FURTHER INFORMATION CONTACT: William R. Blanton, Jr., Engineering Management Section, Mitigation Directorate, Federal Emergency Management Agency, 500 C Street, SW., Washington, DC 20472, (202) 646-3151.

SUPPLEMENTARY INFORMATION: In accordance with section 1360(i) of the National Flood Insurance Reform Act of 1994, this notice is provided to inform interested parties of the availability of changes made by FEMA to NFIP maps. In the Compendium of Flood Map Changes, the two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) Those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be made available approximately every 6 months.

Dated: September 13, 2007.
David I. Maurstad,
Federal Insurance Administrator of the National Flood Insurance Program, Federal Emergency Management Agency, Department of Homeland Security.

[FR Doc. E7-19296 Filed 9-28-07; 8:45 am]

BILLING CODE 9110-12-P